DEPARTMENT OF COMMERCE

International Trade Administration

[A-533-824]

Polyethylene Terephthalate Film, Sheet, and Strip From India: Initiation of Antidumping Duty Changed Circumstances Review; Garware

AGENCY: Enforcement and Compliance, International Trade Administration, Department of Commerce.

SUMMARY: In response to a request for a changed circumstances review (CCR) by Garware Hi-Tech, the U.S. Department of Commerce (Commerce) is initiating a CCR of the antidumping duty (AD) order on polyethylene terephthalate film, sheet, and strip (PET film) from India.

DATES: Applicable August 22, 2023.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On July 1, 2002, Commerce published the AD order in the Federal Register.¹ In the most recently completed administrative review of the Order covering the period July 1, 2020, to June 30, 2021, we rescinded the administrative review with respect to Garware Polyester Limited (Garware).² The most recently completed administrative review in which Garware was assigned a dumping rate was the administrative review covering the July 1, 2017, through June 30, 2018, period, wherein Garware was a non-individually examined company under review.³

¹ See Notice of Amended Final Antidumping Duty Determination of Sales at Less Than Fair Value and Antidumping Duty Order: Polyethylene Terephthalate Film, Sheet, and Strip (PET Film) from India, 67 FR 44175 (July 1, 2002) (Order).

² See Polyethylene Terephthalate Film, Sheet, and Strip from India: Preliminary Results and Partial Rescission of Antidumping Duty Administrative Review; 2020-2021, 87 FR 47968 (August 5, 2022).

³ See Polyethylene Terephthalate Film, Sheet, and Strip from India: Final Results of Antidumping Duty Administrative Review; 2017-2018, 85 FR 14883 (March 16, 2020).

On July 4, 2023, in accordance with section 751(b) of the Tariff Act of 1930, as amended (the Act), and 19 CFR 51.221(c)(3), Garware Hi-Tech requested that Commerce conduct an expedited CCR to determine that Garware Hi-Tech is the successor-in-interest to Garware due to a change in the company's name (i.e., Garware Polyester Limited to Garware Hi-Tech), and assign Garware Hi-Tech the non-selected rate assigned to Garware in the 2017-2018 administrative review.⁴ In its submission, Garware Hi-Tech addressed the factors Commerce analyzes with respect to successor-in-interest determinations in the AD context and provided supporting documentation. Commerce received no comments from interested parties on Garware Hi-Tech's request.

⁴ See Garware Hi-Tech's Letter, “Garware Hi-Tech Films Limited's Request for a Changed Circumstances Review,” dated July 4, 2023.

Scope of the Order

The products covered by the AD order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope the AD order is dispositive.

Initiation of Changed Circumstances Review

Pursuant to section 751(b)(1) of the Act and 19 CFR 351.216(d), Commerce will conduct a CCR upon receipt of information concerning, or a request from an interested party for a review of an Order that shows changed circumstances sufficient to warrant a review of the order. Commerce determines that the information submitted by Garware Hi-Tech constitutes a sufficient basis to conduct a CCR of the Order.⁵

⁵ See 19 CFR 351.216(d).

In the event that Commerce determines an expedited action is warranted, 19 CFR 351.221(c)(3)(ii) permits Commerce to combine the notice of initiation of the review and the preliminary results of review into a single notice. However, we are not combining this notice of initiation with the preliminary results, pursuant to 19 CFR 351.221(c)(3)(ii), because Commerce has determined that it is necessary to issue a questionnaire requesting additional information from Garware for this CCR regarding its ownership and management structure and its production facilities. After examining any properly filed comments and following up with any additional questionnaires as needed, we intend to issue the preliminary results of the CCR.

Preliminary and Final Results of the CCR

Commerce intends to publish in the Federal Register a notice of the preliminary results of this CCR in accordance with 19 CFR 351.221(b)(4) and (c)(3)(i). Commerce will set forth its preliminary factual and legal conclusions in that notice and a description of any action proposed based on those results. All information submitted may be subject to verification. Failure to allow full and complete verification of any information submitted may affect Commerce's consideration of that information. Pursuant to 19 CFR 351.221(b)(4)(ii), interested parties will have an opportunity to comment on the preliminary results. Unless extended, Commerce will issue the final results of this CCR in accordance with the time limits set forth in 19 CFR 351.216(e).

Notification to Interested Parties

We are publishing this initiation notice in accordance with section 751(b)(1) and 777(i)(1) of the Act, 19 CFR 351.216(b), and 19 CFR 351.221(b)(1).

Dated: August 16, 2023.
James Maeder,
Deputy Assistant Secretary for Antidumping and Countervailing Duty Operations.

[FR Doc. 2023-17997 Filed 8-21-23; 8:45 am]

BILLING CODE 3510-DS-P